DEPARTMENT OF ENERGY

Federal Energy Regulatory Commission

[Project No. 12658-001]

E.ON U.S. Hydro 1 LLC; Notice of Application Tendered for Filing With the Commission and Soliciting Additional Study Requests

October 18, 2006.

Take notice that the following hydroelectric application has been filed with the Commission and is available for public inspection.

a. Type of Application: Original Major License.

b. Project No.: 12658-001.

c. Date Filed: October 10, 2006.

d. Applicant: E.ON U.S. Hydro 1 LLC.

e. Name of Project: Meldahl Hydroelectric Project.

f. Location: On the Ohio River, near the City of Augusta, Bracken County, Kentucky. The existing dam is owned and operated by the U.S. Army Corps of Engineers (Corps). The project would occupy approximately 16 acres of United States lands administered by the Corps.

g. Filed Pursuant to: Federal Power Act 16 U.S.C. 791 (a)-825(r).

h. Applicant Contact: Mr. Michael S. Beer, E.ON U.S. Hydro 1 LLC, 220 West Main Street, Louisville, KY 40202, (502) 627-3547; e-mail—mike.beer@eon-us.com.

i. FERC Contact: Peter Leitzke at (202) 502-6059; or e-mail at peter.leitzke@ferc.gov.

j. Cooperating Agencies: We are asking Federal, State, local, and tribal agencies with jurisdiction and/or special expertise with respect to environmental issues to cooperate with us in the preparation of the environmental document. Agencies who would like to request cooperating status should follow the instructions for filing comments described in item 1 below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

1. Deadline for filing additional study requests and requests for cooperating agency status: December 11, 2006.

All documents (original and eight copies) should be filed with: Magalie R. Salas, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. The proposed project would utilize the existing U.S. Army Corps of Engineers' Captain Anthony Meldahl Locks and Dam, and would consist of: (1) An intake channel; (2) a combined 225-foot-long by 205-foot-wide powerhouse and intake section containing three generating units having a total installed capacity of 99 megawatts; (3) a tailrace channel; (4) a substation; (5) a 1.7-mile-long, 138-kilovolt transmission line; and (6) appurtenant facilities. The project would have an annual generation of 500 gigawatt-hours, which would be sold to a local utility.

o. A copy of the application is available for review at the Commission in the Public Reference Room or may be viewed on the Commission's Web site at http://www.ferc.gov using the “eLibrary” link. Enter the docket number, excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Kentucky State Historic Preservation Officer (SHPO) and the Ohio SHPO, as required by § 106, National Historic Preservation Act, and the regulations of the Advisory Council on Historic Preservation, 36 CFR 800.4.

q. Procedural schedule: The application will be processed according to the following Hydro Licensing Schedule. Revisions to the schedule will be made as appropriate.

Issue Acceptance or Deficiency Letter | January 2007.
Request Additional Information | January 2007.
Issue Scoping Document for comments | March 2007.
Notice of application is ready for environmental analysis | June 2007.
Notice of the availability of the draft EA | December 2007.
Notice of the availability of the final EA | June 2008.

Magalie R. Salas,
Secretary.

[FR Doc. E6-18095 Filed 10-27-06; 8:45 am]

BILLING CODE 6717-01-P